FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201344.

Agreement Name: The Global Shipping Business Network Agreement.

Parties: CMA CGM S.A.; COSCO SHIPPING Lines Co., Ltd.; Hapag-Lloyd AG; and Orient Overseas Container Line Limited.

Filing Party: Eric Jeffrey; Nixon Peabody.

Synopsis: The Agreement authorizes the parties to cooperate with respect to the operation of a platform for all shipping supply chain participants to work collaboratively to accelerate technology innovation and develop solutions through a blockchain-enabled, global trade digitized process.

Proposed Effective Date: 7/10/2020.

Location: https://www2.fmc.gov/FMC.Agreements.Web/Public/AgreementHistory/29502.

Dated: May 27, 2020.
Rachel Dickon,
Secretary.

[FR Doc. 2020-11694 Filed 5-29-20; 8:45 am]

BILLING CODE 6730-02-P